FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Express Worldwide Logistics, Inc., 3012 Holden Road, Lakeland, FL 33811. Officers: Eric J. Colon, Secretary (Qualifying Individual), Chi S. Wong, President.

PAL Shipping Lines, Inc., 12588 318th Ave., Princeton, MN 55371. Officer: Scott A. Frane, President (Qualifying Individual).

Onpoint International, LLC, 331 Charles Street, Iselin, NJ 08830. Officers: Devashi Upadhyaya, President (Qualifying Individual), Juan C. Ruelas, Vice President.

Chroonos International Cargo Corp., 6030 NW. 99th Ave., Doral, FL 33178. Officer: Paula Almeida, President (Qualifying Individual).

GAL (BOS) Inc., 580 Chelsa Street, East Boston, MA 02128. Officer: Chun Shing Ip, President (Qualifying Individual).

Global Alliance Logistics (LA) Inc., 9133 S. La Cienega Blvd., Ste. 270, Inglewood, CA 90301. Officer: Chun Shing Ip, President (Qualifying Individual).

JW J Express Inc., 149-23 182nd Street, Ste. 108, Jamaica, NY 11413. Officer: Charles Wu, Vice President (Qualifying Individual).

Global Alliance Logistics (NYC) Inc., Cross Island Plaza, Ste. 209, Rosedale, NY 11422. Officer: Chun Shing Ip, President (Qualifying Individual).

Blue Carrier Line, Inc., 2350 Hyland Blvd., Stanton Island, NY 10306. Officer: Kenney W. Whitman, President (Qualifying Individual).

Alexa Transport Corp., 8951 NW. 111 Terrace, Hialeah Gardens, FL 33018. Officer: Raxfel Alfonso, Vice President (Qualifying Individual).

Argen Shipping, LLC, 2900 NW. 75 Street, Miami, FL 33147. Officer: Leonard Martinez, Mgr. (Qualifying Individual).

Bernuth Express, LLC, 3201 NW. 24, Miami, FL 33142. Officer: Thomas R. Paelinck, Exec. Vice Pres. (Qualifying Individual).

Horizon International Cargo Inc., 5426 W. Rosecrane Ave., Hawthorne, CA 90250. Officers: Casey Young Pak, Asst. Secretary (Qualifying Individual), Nigel Davies, President.

Manila Cargo, Inc., 675 Hegenberger Road, Oakland, CA 94623. Officers: Yea C. Tang, Secretary (Qualifying Individual), Gerardo R. DeGuzman, President.

Non-Vessel Operating Common Carrier and Ocean Freight Forwarder Transportation Intermediary Applicants

Knight Brokerage, LLC, 5601 W. Mohave, Ste. B, Phoenix, AZ 85043. Officers: Ryan D. Pett, Dir. Of Global Transportation (Qualifying Individual), Greg W. Ritter, President.

Indigo Logistics, LLC, 601 Interchange Drive, Atlanta, GA 30336. Officer: Brenda E. Netties, Member (Qualifying Individual).

Danzas Corporation dba Danmar Lines Ltd; dba Danmar Lines; dba DHL Global Forwarding; dba DHL Danzas Air & Ocean, 1200 So. Pine Island Road, Ste. 600, Plantation, FL 33324. Officer: Steen Christensen, Vice President (Qualifying Individual).

Middle East Shipping Co., Inc., 6013 Spencer Hwy., Ste. A, Pasadena, TX 77505. Officer: Muhammad Badr, President (Qualifying Individual).

Crowley Logistics Inc., 9487 Regency Square Blvd., Jacksonville, FL 32225. Officer: John Hourham, Vice President (Qualifying Individual).

Oceanic Container Line Inc., 2350 Hylan Blvd., Staten Island, NY 10306. Officer: Kenney Whitman, President (Qualifying Individual).

Well Port Container Line Inc., 257 Quentin Road, Brooklyn, NY 11223. Officers: Xi Bo Li, President (Qualifying Individual), Yueting Luo, Secretary.

Bon Trade Int'l. Corp., 9643 NW. 33 Street, Doral, FL 33172. Officer: Stephen A. Perret-Gentil, President (Qualifying Individual).

Peters & May USA, Inc. dba Compass Marine, 1656 Carmen Drive, Elk Grove Village, IL 60007. Officer: Matthew T. Marshall, Asst. Secretary (Qualifying Individual).

The Maritime Company For Navigation USA, Inc. dba The Maritime Company For Navigation, 330 Snyder Ave., Berkley Heights, NJ 07922. Officer: Cindy Singer, Vice President (Qualifying Individual).

Global Alliance Logistics (CHI) Inc., 710 Foster Ave., Bensenville, IL 60106. Officers: Chun Shing Ip, President (Qualifying Individual), Chi Chiu Fan, Vice President.

Action One Logistics, Inc., 115 Fulford Ave., Bel Air, MD 21014. Officers: David S. Edwards, President (Qualifying Individual), Belinda E. Richardson, Vice President.

Ocean Freight Forwarder—Ocean Transportation Intermediary Applicants

Sun US Transport Corp., 810 W. Commonwealth Ave., Alhambra, CA 81801. Officer: Pete Paang, CEO (Qualifying Individual).

Prolog Services Incorporated dba PSI Ocean Freight Systems, 5803 Sovereign Dr., #220, Houston, TX 77036. Officers: Stanley A. Egbo, President (Qualifying Individual), Ernest C. Agu, Vice President.

CU Logistics Inc. dba CU Container Line Inc.; dba UC Forwarders Inc., 3671 Norwich Pl., Rowland Heights, CA 91748. Officer: Peiqing Zhang, Vice President (Qualifying Individual).

Global Management, Inc., 444 Grand Street, Paterson, NJ 07505. Officer: Hassan Shaaban, President (Qualifying Individual).

N.G.K. Corporation, 8560 NW. 64 Street, Miami, FL 33166. Officer: Gladys E. Fisboin, President (Qualifying Individual).

Liteship International LLC, 440 McClellan Highway, East Boston, MA 02128. Officers: James H. Breda, Manager/Member (Qualifying Individual), Eric J. Breda, Manager/Member.

USA InterCargo, LLC, 564 Industrial Drive, Carmel, IN 46032. Officer: Isabella G. Caballero, Export Manager (Qualifying Individual).

Ground and Well Water International, 821 S. Memphis Way, Aurora, CO 80017. Officer: Raymond T. Olatubosun, Vice President (Qualifying Individual).

Carolina Shipping Company, L.P. dba Cutlass Logistics Ltd., 1064 Gardner Road, Charleston, SC 29407. Officer: Dennis Forsberg, President (Qualifying Individual).

Dated: May 8, 2009.
Karen V. Gregory,
Secretary.

[FR Doc. E9-11185 Filed 5-12-09; 8:45 am]

BILLING CODE 6310-01-P